DEPARTMENT OF HEALTH AND HUMAN SERVICES

Centers for Disease Control and Prevention

Notice of Award of a Single-Source Cooperative Agreement To Fund National Institute for Communicable Diseases (NICD), South Africa

AGENCY: Centers for Disease Control and Prevention (CDC), Department of Health and Human Services (HHS).

ACTION: Notice.

SUMMARY: The Centers for Disease Control and Prevention (CDC), located within the Department of Health and Human Services (HHS), announces the award of approximately $5,000,000 for Year 1 of funding to the National Institute for Communicable Diseases (NICD), South Africa. The award will provide accurate, timely, and high-quality strategic information to enable the South African Government (SAG) to track critical infectious disease pathogens, monitor interventions, and inform policy and programming to reduce disease transmission and burden. Annual award amounts for years 2-5 will be set at continuation.

DATES: The period for this award will be September 30, 2022, through September 29, 2027.

FOR FURTHER INFORMATION CONTACT: Dr. Karidia Diallo, Center for Global Health, Centers for Disease Control and Prevention, 100 Totius Street, Groenkloof, Pretoria, South Africa, Telephone: 800-232-6348, Email: edu9@cdc.gov.

SUPPLEMENTARY INFORMATION: The single-source award will support the SAG in four broad areas of public health surveillance and response: Communicable (e.g., HIV and TB) and non-communicable disease surveillance, public health laboratory capacity, public health workforce development, and global health security. The NICD, under the National Public Health Institute of South Africa (NAPHISA), is in a unique position to conduct this work, through an act of parliament mandating the organization to provide microbiology, virology, epidemiology, surveillance and public health research and training to support the government's response to communicable disease threats.

Summary of the Award

Recipient: National Institute for Communicable Diseases (NICD), South Africa.

Purpose of the Award: The purpose of this award is to provide accurate, timely, and high-quality strategic information to enable the SAG to track critical infectious disease pathogens, monitor interventions, and inform policy and programming to reduce disease transmission and burden.

Amount of Award: The approximate year 1 funding amount will be $5,000,000 in Federal Fiscal Year (FFY) 2022 funds, subject to the availability of funds. Annual award amounts for years 2-5 will be set at continuation.

Authority: This program is authorized under Public Law 108-25 (the United States Leadership Against HIV AIDS, Tuberculosis and Malaria Act of 2003).

Period of Performance: September 30, 2022, through September 29, 2027.

Dated: January 19, 2022.
Terrance Perry,
Chief Grants Management Officer, Centers for Disease Control and Prevention.

[FR Doc. 2022-01271 Filed 1-21-22; 8:45 am]

BILLING CODE 4163-18-P